DEPARTMENT OF HEALTH AND HUMAN SERVICES

National Institutes of Health

National Institute of Dental & Craniofacial Research; Amended Notice of Meeting

Notice is hereby given of a change in the meeting of the National Institute of Dental and Craniofacial Research Special Emphasis Panel, February 2, 2023, 10:00 a.m. to February 2, 2023, 04:00 p.m., National Institute of Dental and Craniofacial Research, 6701 Democracy Boulevard, Bethesda, MD 20892, which was published in the Federal Register on December 19, 2022, 87 FR 77622.

This notice is being amended to change the contact SRO from Nisan Bhattacharyya to Yun Mei. Yun Mei's contact information is as follows:

Yun Mei, MD, Scientific Review Officer, Scientific Review Branch, National Institute of Dental and Craniofacial Research, National Institutes of Health, 6701 Democracy Boulevard, Suite #670, Bethesda, MD 20892, (301) 827-4639, yun.mei@nih.gov.

No other details have changed. The meeting is closed to the public.

Dated: January 6, 2023.
Miguelina Perez,
Program Analyst, Office of Federal Advisory Committee Policy.

[FR Doc. 2023-00431 Filed 1-11-23; 8:45 am]

BILLING CODE 4140-01-P